DEPARTMENT OF THE INTERIOR

Bureau of Reclamation

Fish and Wildlife Service

Suisun Marsh Habitat Management, Preservation, and Restoration Plan, California

AGENCIES: Bureau of Reclamation and Fish and Wildlife, Interior.

ACTION: Notice of availability of draft environmental impact statement/environmental impact report (EIS/EIR) and notice of public meetings.

SUMMARY: The Bureau of Reclamation (Reclamation) and the Fish and Wildlife Service (Service), as the National Environmental Policy Act (NEPA) Federal joint lead agencies, and the State of California Department of Fish and Game (DFG), acting as the California Environmental Quality Act State lead agency, have made available for public review and comment the Suisun Marsh Habitat Management, Preservation, and Restoration Plan (SMP) Draft EIS/EIR. The SMP is a comprehensive 30-year plan designed to address various conflicts regarding use of resources within approximately 51,000 acres of the Suisun Marsh (Marsh), with the focus on achieving an acceptable multi-stakeholder approach to the restoration of tidal wetlands and the enhancement of managed wetlands and their functions.

DATES: Written comments on the Draft EIS/EIR must be received by 5 p.m. Pacific time on December 28, 2010.

Two public meetings have been scheduled to receive written comments regarding environmental effects:

• Thursday, November 18, 2010, 2 p.m. to 4 p.m., Suisun City, CA.

• Thursday, November 18, 2010, 6 p.m. to 8 p.m., Benicia, CA.

ADDRESSES: Send any written comments on the Draft EIS/EIR to Ms. Becky Victorine, Bureau of Reclamation, 2800 Cottage Way, Sacramento, CA 95825; or e-mail to rvictorine@usbr.gov.

The public meetings will be held at the following locations:

• Suisun City, CA at Rush Ranch, 3521 Grizzly Island Road, Suisun City, CA 94585.

• Benicia, CA at Benicia Public Library, 150 East L Street, Benicia, CA 94510.

The Draft EIS/EIR is accessible at the following Web site: http://www.usbr.gov/mp/nepa/nepa_projdetails.cfm?Project_ID=781. Copies may also be requested from Ms. Becky Victorine, at the above addresses or at 916-978-5035.

FOR FURTHER INFORMATION CONTACT: Ms. Becky Victorine, Bureau of Reclamation, 916-978-5035, rvictorine@usbr.gov, or Ms. Cay Goude, U.S. Fish and Wildlife Service, 916-414-6600, cay_goude@fws.gov.

SUPPLEMENTARY INFORMATION: The Draft EIS/EIR documents the direct, indirect, and cumulative effects to the physical, biological, and socioeconomic environment that may result from implementing the SMP alternatives.

As the largest contiguous brackish water marsh remaining on the west coast of North America, the Marsh is a critical part of the San Francisco Bay/Sacramento-San Joaquin Delta (Bay-Delta) estuary ecosystem. The values of the Marsh have been recognized as important, and several agencies have been involved in the area's protection since the mid-1970s. In 2001, the principal Federal, State, and local agencies that have jurisdiction or interest in the Marsh directed the formation of a charter group to develop a plan for Suisun Marsh that would balance the needs of the California Bay-Delta Program (CALFED), the Suisun Marsh Preservation Agreement, and other plans by protecting and enhancing existing land uses and existing waterfowl and wildlife values, including those associated with the Pacific Flyway, endangered species, and State and Federal water project supply quality. A subset of this charter group has collaboratively prepared the SMP Draft EIS/EIR. The principal agencies include the Service, Reclamation, National Marine Fisheries Service (NMFS), DFG, State of California Department of Water Resources, Suisun Resource Conservation District, and the California Bay-Delta Authority. When the EIS/EIR is finalized, each principal agency will use it to implement particular actions described and analyzed in the document that would contribute to the overall implementation of the SMP. NMFS and the U.S. Army Corps of Engineers are cooperating agencies in accordance with NEPA.

Background

The historical diking of tidal wetlands resulted in a loss of habitat for many species, including some listed as threatened or endangered. However, managed wetlands provide important habitats for numerous wetland species, migratory birds, and waterfowl; support existing wildlife populations; and are vital to the heritage of hunting in Suisun Marsh. Protecting the ecological values of both the historical tidal wetland habitat and the current managed wetland habitat is vital to ensure stability of the many species that depend on each of these wetland types. Managed wetlands, tidal wetlands, and uplands, whether publicly or privately owned, provide important wetlands for migratory waterfowl and other resident and migratory wetland-dependent species and opportunities for hunting, fishing, bird watching, and other recreational activities. There is a need to maintain these opportunities as well as improve public stewardship of the Marsh to ensure that the implementation of restoration and managed wetland activities is understood and valued for both public and private land uses. Current restrictions regarding levee maintenance activities in the Marsh have forced maintenance to be deferred on some exterior levees, increasing the risk of catastrophic flooding. Multiple factors contribute to the degradation of water quality in the Marsh, and improvement of water quality and water quality management practices is needed to benefit the ecological processes for all habitats, including managed and tidal wetlands. Given these needs, the SMP is a comprehensive plan designed to address the various conflicts regarding use of Marsh resources, with the focus on achieving an acceptable multi-stakeholder approach to the restoration of tidal wetlands and the enhancement of managed wetlands and their functions. The SMP is intended to guide near-term and future actions related to restoration of tidal wetlands and managed wetland activities in the Marsh.

Preferred Alternative

All action alternatives of the SMP include the same basic components, which provide a framework for how restoration and managed wetland activities would be implemented. The alternatives differ in the amount of acreage of restored tidal wetlands and remaining managed wetlands subject to managed wetland activities. Restoration of tidal wetlands would help to achieve the restoration goals established for the Marsh by the CALFED Ecosystem Restoration Program Plan, San Francisco Bay Area Wetlands Ecosystem Goals Project, and the Service's Draft Recovery Plan for Tidal Marsh Ecosystems of Northern and Central California. Restoration of tidal wetlands would be implemented over the 30-year SMP timeframe, and benefits from individual projects would change as elevations rise due to sediment accretion, vegetation becomes established, and vegetation communities shift over time from low marsh to high marsh condition.

Managed wetlands provide valuable habitat for a variety of non-waterfowl birds, mammals, reptiles, and amphibians. The intended outcomes of the managed wetlands activities described in the Draft EIS/EIR are to maintain and improve habitat conditions and minimize or avoid adverse effects of wetland operations. Most of these activities are already occurring in the Marsh; however, some of the current activities would be modified, and some new activities would be conducted, as described in detail in the Draft EIS/EIR.

The preferred alternative identified in the Draft EIS/EIR includes restoring 5,000 to 7,000 acres in the Marsh to fully functioning, self-sustaining tidal wetland and protecting and enhancing existing tidal wetland acreage; and improving the remaining 44,000 to 46,000 acres of managed wetlands, levee stability, and flood and drain capabilities, as previously identified in the 2007 CALFED Programmatic Record of Decision.

Special Assistance for Public Meetings

If special assistance is required to participate in the public meetings, please contact Becky Victorine at 916-978-5035, TDD 916-978-5608, or via e-mail at rvictorine@usbr.gov. Please notify Ms. Victorine as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: May 4, 2010.
Pablo R. Arroyave,
Deputy Regional Director, Mid-Pacific Region, U.S. Bureau of Reclamation.
Dated: May 17, 2010.
Alexandra Pitts,
Assistant Regional Director of External Affairs, Pacific Southwest Region, U.S. Fish and Wildlife Service.

[FR Doc. 2010-27364 Filed 10-28-10; 8:45 am]

BILLING CODE 4310-MN-P